DEPARTMENT OF ENERGY

DOE Response to Recommendation 2005-1 of the Defense Nuclear Facilities Safety Board, Nuclear Material Packaging.

AGENCY: Department of Energy.

ACTION: Notice.

SUMMARY: The Defense Nuclear Facilities Safety Board Recommendation 2005-1, concerning nuclear material packaging was published in the Federal Register on March 21, 2005 (70 FR 13482). In accordance with section 315(b) of the Atomic Energy Act of 1954, as amended, 42 U.S.C. 2286d(b), and the Secretary transmitted the following response to the Defense Nuclear Facilities Safety Board on May 6, 2005.

DATES: Comments, data, views, or arguments concerning the Secretary's response are due on or before June 16, 2005.

ADDRESSES: Send comments, data, views, or arguments concerning the Secretary's response to: Defense Nuclear Facilities Safety Board, 625 Indiana Avenue, NW., Suite 700, Washington, DC 20004.

FOR FURTHER INFORMATION CONTACT: Mr. Robert J. McMorland, Nuclear Engineer, Departmental Representative to the Defense Nuclear Facilities Safety Board, Department of Energy, U.S. Department of Energy, 1000 Independence Avenue SW., Washington, DC 20585.

Issued in Washington, DC on May 17, 2005.
Mark B. Whitaker, Jr.,
Departmental Representative to the Defense Nuclear Facilities Safety Board.

BILLING CODE 6450-01-U

[FR Doc. 05-10000 Filed 5-18-05; 8:45 am]

BILLING CODE 6450-01-C